OFFICE OF THE UNITED STATES TRADE REPRESENTATIVE

Notice of Effective Dates

AGENCY: Office of the United States Trade Representative.

ACTION: Notice of effective dates for CAFTA-DR amendment and rule of origin for woven apparel.

SUMMARY: In Proclamation 8213 of December 20, 2007, as modified by Proclamation 8272 of June 30, 2008, the President modified the Harmonized Tariff Schedule of the United States (the “HTS”) to implement (1) an amendment to the Dominican Republic-Central America-United States Free Trade Agreement (“CAFTA-DR”) and (2) a rule of origin under the CAFTA-DR with respect to certain woven apparel. The proclamations provide for each set of modifications to enter into effect on a date that the United States Trade Representative (the “USTR”) announces in the Federal Register and to apply to goods that are entered, or withdrawn from warehouse for consumption, on or after that date. This Notice announces that the effective date for both sets of modifications is August 15, 2008.

FOR FURTHER INFORMATION CONTACT: For further information, please contact Rachel Alarid, Special Trade Assistant, Office of Textiles and Apparel, Office of the United States Trade Representative, 600 17th Street, NW., Washington, DC 20508, fax number, (202) 395-5639.

SUPPLEMENTARY INFORMATION:

1. Amendment to CAFTA-DR

The CAFTA-DR parties signed an amendment of the CAFTA-DR on July 27, August 6, and August 14, 2007 (the “Amendment”). The terms of the Amendment are contained in letters of understanding between the United States and the CAFTA-DR signatories described in sections 1634(a)(2) and 1634(b)(2) of the Pension Protection Act of 2006 (Pub. L. 109-280). In Proclamation 8213, as modified by Proclamation 8272, the President modified the HTS to implement the Amendment with respect to the CAFTA-DR parties. These modifications are set forth in sections A, B, and C of the Annex to Proclamation 8213, as modified by paragraph 2 of Annex VI to Proclamation 8272.

Proclamations 8213 and 8272 provide for these modifications to enter into effect on the date, as announced by the USTR in the Federal Register, that the Amendment enters into force, and to be effective with respect to goods entered, or withdrawn from warehouse for consumption, on or after that date. I anticipate that the Amendment will enter into force on August 15, 2008. Accordingly, I announce that these modifications to the HTS shall enter into effect on August 15, 2008.

2. Rule of Origin for Woven Apparel

Section 203(o) of the CAFTA-DR Implementation Act (19 U.S.C. 4033(o)) authorizes the President to proclaim, as part of the HTS, the provisions set out in Annex 4.1 of the CAFTA-DR. Among these provisions is a rule of origin set out in Appendix 4.1-B of the CAFTA-DR that provides, subject to certain conditions, for Mexican and Canadian inputs to be treated as though they originated in a CAFTA-DR country for purposes of determining whether certain woven apparel imported into the United States qualifies for duty-free treatment under the agreement. In Proclamation 8213, as modified by Proclamation 8272, the President modified the HTS to implement this rule of origin. These modifications are set forth in section D of the Annex to Proclamation 8213, as modified by paragraph 1 of Annex VI to Proclamation 8272.

Proclamations 8213 and 8272 provide for these modifications to the HTS to enter into effect on the date, as announced by the USTR in the Federal Register, that the Amendment enters into force and the conditions set forth in paragraph (a), paragraph (b), or both, of footnote 1 to Appendix 4.1-B of the CAFTA-DR have been fulfilled, and to be effective with respect to goods entered, or withdrawn from warehouse for consumption, on or after that date. I anticipate that the Amendment will enter into force on August 15, 2008. In addition, all of the conditions set forth in paragraph (a) of footnote 1 to Appendix 4.1-B of the CAFTA-DR have been fulfilled and therefore the rule of origin may enter into force with respect to woven apparel containing materials produced in Mexico. Accordingly, I announce that these modifications to the HTS shall enter into effect on August 15, 2008, with respect to materials produced in Mexico.

Susan C. Schwab,
U.S. Trade Representative.

[FR Doc. E8-18216 Filed 8-6-08; 8:45 am]

BILLING CODE 3190-W8-P